DEPARTMENT OF COMMERCE

National Oceanic and Atmospheric Administration

[Docket No. 990125028-1050-02]

RIN 0648-ZA54

Aquatic Nuisance Species Research and Outreach: Request for Proposals for FY 2001

AGENCY: National Sea Grant College Program, National Oceanic and Atmospheric Administration, Department of Commerce.

ACTION: Notice of request for proposals.

SUMMARY: The purpose of this notice is to advise the public that the National Sea Grant College Program (Sea Grant) is entertaining preliminary proposals and subsequently full proposals for innovative research and outreach projects that address the problems of Aquatic Nuisance Species in U.S. coastal waters. In FY 2001 and 2002, Sea Grant expects to make available about $2,700,000 per year to support projects to prevent and/or control nonindigenous species invasions in all U.S. marine waters, the Great Lakes, and Lake Champlain; matching funds equivalent to a minimum of 50% of the Federal request must be provided. Successful projects will be selected through national competitions.

DATES: Preliminary proposals must be submitted before 5 pm (local time) on April 4, 2001. After evaluation at the National Sea Grant Office (NSGO), some proposers will be encouraged to prepare full proposals, which must be submitted before 5 pm (local time) on May 28, 2001. (See Addresses for where to submit preliminary and full proposals.)

ADDRESSES: Preliminary proposals and full proposals from applicants in Sea Grant states must be submitted through the state Sea Grant Program. Preliminary proposals and full proposals from applicants outside Sea Grant states may be submitted either through the nearest Sea Grant Program or directly to the Program Manager at the National Sea Grant Office. The addresses of the Sea Grant College Program directors may be found on Sea Grant's home page (www.nsgo.seagrant.org/SGDirectors.html) or may also be obtained by contacting the Program Manager at the National Sea Grant Office (see below).

FOR FURTHER INFORMATION CONTACT: Leon M. Cammen, Aquatic Nuisance Species Coordinator, National Sea Grant College Program, R/SG, NOAA, 1315 East-West Highway, Silver Spring, MD 20910, or Mary Robinson, Secretary, National Sea Grant Office, 301-713-2435; facsimile 301-713-0799.

SUPPLEMENTARY INFORMATION:

I. Program Authority

Authority: 33 U.S.C. 1121-1131.

Catalog of Federal Assistance Number: 11.417, Sea Grant Support.

II. Program Description

Background

Nonindigenous species introductions are increasing in frequency and causing substantial damage to the Nation's environment and economy. Although the most prominent of these has been the zebra mussel, many other nonindigenous species have been introduced and have truly become a nationwide problem that threatens many aquatic ecosystems. While some intentional introductions may have had beneficial effects, there are many other nonindigenous species already present in U.S. waters, or with the potential to invade, that may cause significant damage to coastal resources and the economies that depend upon them. In response, the Nonindigenous Aquatic Nuisance Prevention and Control Act of 1990 (16 U.S.C. 4701 et seq.) established a framework for the Nation to address the problems of aquatic nuisance species invasions of coastal and Great Lakes ecosystems.

Although problems such as the zebra mussel and the sea lamprey within the Great Lakes have received the most attention, invasions of nonindigenous species in coastal marine environments are an increasing and serious threat. The National Invasive Species Act of 1996 (16 U.S.C. 4711-4714) recognized this by calling for Federal funding to support aquatic nuisance species prevention and control along the Nation's marine coast.

Funding Availability and Priorities

The National Sea Grant College Program encourages proposals that address the following program area: “Research and Outreach to Prevent and Control Aquatic Nuisance Species Invasions.”

An interagency Ad Hoc Committee on Exotic Species in the Great Lakes has prepared a report entitled, “Coordinated Program of Research for Exotic Species in the Great Lakes.” Although targeted for the Great Lakes, the report provides a useful framework for research and outreach on any nonindigenous species problems and is therefore being used to structure this more general request for proposals covering U.S. marine waters, the Great Lakes, and Lake Champlain. Research and outreach proposals are requested that address one or more of the following program areas:

(a) Biology and Life History: Basic biological research into population dynamics, genetics, physiology, behavior, and parasites and diseases of nonindigenous species with the potential to lead to the development of ecologically safe, effective, and inexpensive control. Research on the ecological and environmental tolerances of nonindigenous species with the potential for prediction of eventual geographic and ecological impacts.

(b) Effects on Ecosystems: Research on the impacts of nonindigenous species at each stage of their life history with the potential for helping natural resource managers determine how to minimize the impacts on established biota and their habitats.

(c) Socio-Economic Analysis: Costs and Benefits: Research on the potential impacts of nonindigenous species on human health in terms of spread of disease, concentration of pollutants, and contamination or purification of drinking water sources. Economic impact on sport, commercial and tribal fisheries, the recreation and tourism industry, the shipping and navigation industry, and municipal and industrial water users. Use of research results to provide a scientific basis for developing sound policy and environmental law, and for public education and technology transfer.

(d) Control and Mitigation: Research into various types of control—engineering (redesigning water intakes, etc.), physical (scraping, filtering, etc.), chemical (biocides, antifoulants, etc.), biological (parasites, predators, etc.), and physicochemical (heat, salinity, pH, etc.)—to develop selective, effective controls that minimize adverse ecological/environmental impacts. Outreach activities that will transfer these technologies to the appropriate users.

(e) Preventing New Introductions: Research and outreach into identifying vectors of introduction, developing cost-effective, realistic methods of prevention, and transferring the information to appropriate users. In particular, research to develop workable and effective methods to eliminate ballast water discharge as a source of nonindigenous species introductions without imposing undue hardships on the shipping industry.

(f) Reducing the Spread of Established Populations: Research and outreach to identify mechanisms for further dispersal of individual established species that will lead to the development of safeguards and protocols to prevent and/or slow the spread of nonindigenous species to uninfested areas, and transfer of that information to appropriate users.

(g) Ballast Water Pathogens and Public Health: Research to assess the public health risks posed by pathogens released in ballast waters discharges in U.S. ports.

Potential investigators are encouraged to review the list of recent and currently funded Sea Grant projects related to Aquatic Nuisance Species that is available on Sea Grant's Aquatic Nuisance Species web page (www.nsgo.seagrant.org/research/nonindigenous/index.html). In addition, regional priorities that were developed by the Great Lakes, Western, and Gulf of Mexico Regional Panels on Aquatic Nuisance Species are also available on the same web page and provide valuable guidance on the major issues within each of those coastal regions.

About $2,7000,000 is available from the National Sea Grant College Program to support these projects in FY 2001; an additional $2,700,000 may be available in FY 2002 depending on the overall funding appropriation for the National Sea Grant College Program. Of this amount, 70% of the funds will be made available to support research projects and 30% for outreach activities. Any two-year awards that are funded annually must have scopes of work that can be easily separated into annual increments of meaningful work that represent solid accomplishments if prospective funding is not made available to the applicant (i.e., the scopes of work for each funding period must produce identifiable and meaningful results in and of themselves); the second year of funding is contingent upon availability of funds and submission of an annual report showing satisfactory progress. Projects selected for funding will be limited to $150,000 of federal contributions per year and each proposal must include additional matching funds equivalent to at least 50% of the Federal funds requested; for example, a proposal requesting a total of $200,000 in Federal support for two years would have to include at least an additional $100,000 in matching funds.

III. Eligibility

Proposals may be submitted by individuals; public or private corporations, partnerships, or other associations or entities (including institutions of higher education, institutes, or non-Federal laboratories), or any State, political subdivision of a State, or agency or officer thereof.

IV. Evaluation Criteria

The evaluation criteria for proposals submitted in response to this Announcement are:

(1) Impact of Proposed Project (65%): The effect this activity will have on reducing the impact of invasive species on the environment and/or the economy, or the need for this activity as a necessary step toward such a reduction in impact; and the degree to which partners and potential users of the results of the proposed activity have been involved in planning the activity and will be involved in the execution of the activity as appropriate.

(2) Scientific or Professional Merit (35%): Degree to which the activity will advance the state of the science or discipline through synthesis of existing information and use and extension of cutting edge as well as state-of-the-art methods; degree to which new approaches to solving problems and exploiting opportunities in resource management or development, or in public outreach on such issues will be employed; degree to which investigators are qualified by education, training and/or experience to execute the proposed activity; and record of achievement with previous funding.

V. Selection Procedures

Preliminary proposals will be reviewed at the NSGO by a panel composed of government, academic, and industry experts. The panel will be asked to assess each preliminary proposal according to the evaluation criteria listed above. The panel will make individual recommendations to the Director of the NSGO regarding which preliminary proposals may be suitable for further consideration. On the basis of the panel's recommendations, the Director of the NSGO will advise proposers whether or not the submission of full proposals is encouraged. Invitation to submit a full proposal does not constitute an indication that the proposal will be funded. Interested parties who are not invited to submit full proposals will not be precluded from submitting full proposals if they have submitted a preliminary proposal in accordance with the procedures described below.

Individual state Sea Grant programs receiving proposals will conduct the mail peer review of the proposed projects in accordance with the Evaluation Criteria listed above. Complete proposals and copies of the mail reviews will then be sent by the state Sea Grant programs to the National Sea Grant Office. The National Sea Grant Office will conduct mail reviews for proposals submitted directly to it by applicants not in Sea Grant states. The proposals will be ranked in accordance with the assigned weights of the above evaluation criteria by an independent peer review panel consisting of government, academic, and industry experts. These panel members will provide individual evaluations on each proposal; thus there will be no consensus advice. Their recommendations and evaluations will be considered by the National Sea Grant Office in the final selection. Only those proposals awarded a score of 50% or greater by the panel will be eligible for funding. For those proposals, the National Sea Grant Office will: (a) Ascertain which proposals best meet the program priorities (stated in Section II), and do not substantially duplicate other projects that are currently funded or are approved for funding by NOAA and other federal agencies, hence, awards may not necessarily be made to the highest-scored proposals; (b) select the proposals to be funded; (c) determine which components of the selected projects will be funded; (d) determine the total duration of funding for each proposal; and (e) determine the amount of funds available for each proposal. Investigators may be asked to modify objectives, work plans, or budgets prior to final approval of the award. Subsequent grant administration procedures will be in accordance with current NOAA grants procedures. A summary statement of the scientific review by the peer panel will be provided to each applicant.

VI. Instructions For Application

Timetable

April 4, 2001, 5 pm (local time)—Preliminary proposals due at state Sea Grant Program, or at NSGO if application is being submitted by a non Sea Grant College Program.

April 9, 2001, 5 pm (EST)—Preliminary proposals received at state Sea Grant Programs due at NSGO.

May 28, 2001, 5 pm (local time)—Full proposals due at state Sea Grant Program, or at NSGO if application is being submitted by a non Sea Grant College Program.

May 31, 2001, 5 pm (EST)—Full proposals received at state Sea Grant Programs due at NSGO.

October 1, 2001 (approximate)—Funds awarded to selected recipients; projects begin.

General Guidelines

Interested parties must submit applications (preliminary or full proposals) as follows. Applications originating in a Sea Grant state must be submitted to that state's Sea Grant Program, who will submit the final grant application to the National Sea Grant Office. Applications originating in a state with no Sea Grant Program may be submitted to the nearest state Sea Grant Program who will then submit the final grant application to the National Sea Grant Office, or the application may be submitted directly to the National Sea Grant Office. Applications may be made for a grant to support up to two-thirds of the total budget. Projects can be for a maximum of two years' duration. Awards will not exceed $150,000 of Federal funds per year. Allocation of matching funds, equal to at least half the federal request, must be specified in the budget; failure to provide adequate matching funds will result in the proposal being rejected without review.

The ideal proposal attacks a well-defined problem that is, or will be, a significant societal issue. The organization or people whose task it will be to make related decisions, or who will be able to make specific use of the projects results, have been identified and contacted by the Principal Investigator(s). The project demonstrates an understanding of what constitutes necessary and sufficient information for responsible decision-making or for applied use, and shows how that information will be provided by the proposed activity, or in concert with other planned activities.

Research projects are expected to have: a rigorous, hypothesis-based scientific work plan, or a well-defined, logical approach to address an engineering problem; a strong rationale for the proposed research; and a clear and established relationship with the ultimate users of the information. Research undertaken jointly with industry, business, or other agencies with interest in the problem will be seen as being meritorious. Their contribution to the research may be in the form of collaboration, in-kind services, or dollar support. Projects that are solely monitoring efforts are not appropriate for funding.

What To Submit

Preliminary Proposal Guidelines

To prevent the expenditure of effort that may not be successful, proposers must first submit preliminary proposals. Preliminary proposals must be single- or double-spaced, typewritten in at least a 10-point font, and printed on metric A4 (210 mm × 297 mm) or 8 ½″ × 11″ paper. The following information should be included:

(1) Signed Title Page: The title page should be signed by the Principal Investigator and should clearly identify the program area being addressed by starting the project title with “Aquatic Nuisance Species.” Principal Investigators and collaborators should be identified by affiliation and contact information. The total amount of Federal funds and matching funds being requested should be listed, as well as the source of the matching funds. Preliminary proposals must include matching funds equivalent to at least 50% of the Federal funds requested.

(2) A concise (2-page limit) description of the project that addresses the following questions: What technology will be developed? How is it important to the nation? What fundamental work has been done that allows advancement of this technology to a more applied level? What are the anticipated economic benefits? Proposers should consult the Evaluation Criteria for additional guidance in preparing the preliminary proposals.

(3) Resumes (1-page limit) of the Principal Investigators.

(4) Proposers are encouraged (but not required) to include a separate page suggesting reviewers that the proposers believe are especially well-qualified to review the proposal. Proposers may also designate persons they would prefer not review the proposal, indicating why. These suggestions will be considered during the review process.

The original and two copies of the preliminary proposals must be submitted to the nearest state Sea Grant Program Director or to the NSGO Program Manager (as explained in “General Guidelines”) before 5 pm (local time) on April 2, 2001. Preliminary proposals received at the state Sea Grant Program offices must be forwarded by the Sea Grant Programs, along with a cover letter, to Dr. Leo Cammen, Program Manager, at the address given above (For Further Information Contact) so as to reach the National Sea Grant Office (NSGO) on or before 5 pm on April 6, 2001. No institutional signatures or federal government forms are needed while submitting preliminary proposals.

Full Proposal Guidelines

All pages should be single- or double-spaced, typewritten in at least a 10-point font, and printed on metric A4 (210 mm × 297 mm) or 8½″ x 11″ paper. Each full proposal should include the items listed below. Brevity will assist reviewers and program staff in dealing effectively with proposals. Therefore, the Project Description may not exceed 15 pages. Tables and visual materials, including charts, graphs, maps, photographs and other pictorial presentations are included in the 15-page limitation; literature citations are not included in the 15-page limitation. Conformance to the 15-page limitation will be strictly enforced. All information needed for review of the proposal should be included in the main text; no appendices are permitted.

(1) Signed Title Page: The title page should be signed by the Principal Investigator and the institutional representative and should clearly identify the program area being addressed by starting the project title with “Aquatic Nuisance Species.” The Principal Investigator and institutional representative should be identified by full name, title, organization, telephone number and address. The total amount of Federal funds being requested should be listed for each budget period.

(2) Project Summary: This information is very important. Prior to attending the peer review panel meetings, some of the panelists may read only the project summary. Therefore, it is critical that the project summary accurately describe the research being proposed and convey all essential elements of the research. The project summary should include: 1. Title: Use the exact title as it appears in the rest of the application. 2. Investigators: List the names and affiliations of each investigator who will significantly contribute to the project. Start with the Principal Investigator. 3. Funding request for each year of the project, including matching funds if appropriate. 4. Project Period: Start and completion dates. Proposals should request a start date of October 1, 2001, or later. 5. Project Summary: This should include the rationale for the project, the scientific or technical objectives and/or hypotheses to be tested, and a brief summary of work to be completed.

(3) Project Description (15-page limit):

(a) Introduction/Background/Justification: Subjects that the investigator(s) may wish to include in this section are: (i) current state of knowledge; (ii) contributions that the study will make to the particular discipline or subject area; and (iii) contributions the study will make toward addressing the problem of nonindigenous species.

(b) Research or Technical Plan: (i) Objectives to be achieved, hypotheses to be tested; (ii) Plan of work—discuss how stated project objectives will be achieved; and (iii) Role of project personnel.

(c) Output: Describe the project outputs that will enhance the Nation's ability to manage and control nonindigenous species impacts.

(d) Coordination with other Program Elements: Describe any coordination with other agency programs or ongoing research efforts. Describe any other proposals that are essential to the success of this proposal.

(e) Literature Cited: Should be included here, but does not count against the 15-page limit.

(4) Budget and Budget Justification: There should be a separate budget for each year of the project as well as a cumulative annual budget for the entire project. Applicants are encouraged to use the Sea Grant Budget Form 90-4, but may use their own form as long as it provides the same information as the Sea Grant form. Subcontracts should have a separate budget page. Matching funds must be indicated; failure to provide required matching funds will result in the proposal being rejected without review. Applicants should provide justification for all budget items in sufficient detail to enable the reviewers to evaluate the appropriateness of the funding requested. For all applications, regardless of any approved indirect cost rate applicable to the award, the maximum dollar amount of allocable indirect costs for which the Department of Commerce will reimburse the Recipient shall be the lesser of: (a) The Federal share of the total allocable indirect costs of the award based on the negotiated rate with the cognizant Federal agency as established by audit or negotiation; or (b) The line item amount for the Federal share of indirect costs contained in the approved budget of the award.

(5) Current and Pending Support: Applicants must provide information on all current and pending Federal support for ongoing projects and proposals, including subsequent funding in the case of continuing grants. The proposed project and all other projects or activities using Federal assistance and requiring a portion of time of the principal investigator or other senior personnel should be included. The relationship between the proposed project and these other projects should be described, and the number of person-months per year to be devoted to the projects must be stated.

(6) Vitae (2 pages maximum per investigator)

(7) Research Protocol (if appropriate): Research activities funded under this program must not accelerate the spread of nonindigenous species to non-infested watersheds. Therefore, investigators whose laboratories or research study sites are in currently uninfested areas must develop procedures for handling the particular nonindigenous species that will prevent its release into the environment. As part of the plan of action, the investigator must detail how the proposed work will be accomplished while safeguarding the environment, and the research protocol will be reviewed by an interagency committee created under the Nonindigenous Aquatic Nuisance Prevention and Control Act of 1990 (16 U.S.C. 4701 et seq.). Guidelines for developing suitable protocols are available through the World Wide Web (www.nsgo.seagrant.org/research/nonindigenous/RFP01.html) or from Dr. Leon Cammen at the National Sea Grant Office (phone: 301-713-2435 x136 or e-mail: leon.cammen@noaa.gov). Proposals lacking a suitable protocol will not be eligible for funding.

(8) Standard Application Forms: Applicants may obtain all required application forms through the World Wide Web at www.nsgo.seagrant.org/research/rfp/index.html#3, from the state Sea Grant Programs or from Dr. Leon Cammen at the National Sea Grant Office (phone: 301-713-2435 x136 or e-mail: leon.cammen@noaa.gov). The following forms must be included:

(a) Standard Forms 424, Application for Federal Assistance and 424B, Assurances—Non-Construction Programs, (Rev 4-88). Applications should clearly identify the program area being addressed by starting the project title with either as appropriate. Please note that both the Principal Investigator and an administrative contact should be identified in Section 5 of the SF424. For Section 10, applicants should enter “11.417” for the CFDA Number and “Sea Grant Support” for the title. The form must contain the original signature of an authorized representative of the applying institution.

(b) Primary Applicant Certifications. All primary applicants must submit a completed Form CD-511, “Certifications Regarding Debarment, Suspension and Other Responsibility Matters; Drug-Free Workplace Requirements and Lobbying,” and the following explanations are hereby provided:

(i) Nonprocurement Debarment and Suspension. Prospective participants (as defined at 15 CFR part 26, Section 105) are subject to 15 CFR part 26, “Nonprocurement Debarment and Suspension” and the related section of the certification form prescribed above applies;

(ii) Drug-Free Workplace. Grantees (as defined at 15 CFR part 26, Section 605) are subject to 15 CFR part 26, Subpart F, “Government wide Requirements for Drug-Free Workplace (Grants)” and the related section of the certification form prescribed above applies;

(iii) Anti-Lobbying. Persons (as defined at 15 CFR part 28, section 105) are subject to the lobbying provisions of 31 U.S.C. 1352, “Limitation on use of appropriated funds to influence certain Federal contracting and financial transactions,” and the lobbying section of the certification form prescribed above applies to applications/bids for grants, cooperative agreements, and contracts for more than $100,000, and loans and loan guarantees for more than $150,000; and

(iv) Anti-Lobbying Disclosures. Any applicant that has paid or will pay for lobbying using any funds must submit an SF-LLL, “Disclosure of Lobbying Activities,” as required under 15 CFR part 28, Appendix B.

(c) Lower Tier Certifications. Recipients shall require applicants/bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to the Department of Commerce (DOC). SF-LLL submitted by any tier recipient or subrecipient should be submitted to DOC in accordance with the instructions contained in the award document.

VII. How To Submit

Preliminary proposals and proposals must be submitted to the state Sea Grant Programs or to the NSGO according to the schedule outlined above (see Addresses and “Timetable”). Although investigators are not required to submit more than the original and two copies of either preproposals or full proposals, the normal review process requires ten copies. Investigtors are encouraged to submit sufficient copies for the full review process if they wish all reviewers to receive color, unusually sized (not 8.5 x 11″), or otherwise unusual materials submitted as part of the proposal. Only the original and two copies of the Federally required forms are needed. The addresses of the Sea Grant College Program directors may be found on Sea Grant's World Wide Web home page (www.nsgo.seagrant.org/SGDirectors.html) or may also be obtained by contacting the Program Manager, Dr. Leon M. Cammen, at the National Sea Grant Office (phone: 301-713-2435 x 136 or e-mail: leon.cammen@noaa.gov). Preproposals and proposals sent to the National Sea Grant Office should be addressed to: National Sea Grant office, R/SG, Attn: Aquatic Nuisance Species Coordinator, NOAA, Room 11841, 1315 East-West Highway, Silver Spring, MD 20910 (phone 301-713-2435 for express mail applications).

Applications received after the deadline and applications that deviate from the format described above will be returned to the sender without review. Facsimile transmissions and electronic mail submission of full proposals will not be accepted.

VIII. Other Requirements

(A) Federal Policies and Procedures—Recipients and subrecipients are subject to all Federal laws and Federal and Department of Commerce (DOC) policies, regulations, and procedures applicable to Federal financial assistance awards.

(B) Past Performance—Unsatisfactory performance under prior Federal awards may result in an application not being considered for funding.

(C) Preaward Activities—If applicants incur any costs prior to an award being made, they do so solely at their own risk of not being reimbursed by the Government. Notwithstanding any verbal or written assurance that may have been received, there is no obligation on the part of DOC to cover preaward costs.

(D) No Obligation for Future Funding—If an application is selected for funding, DOC has no obligation to provide any additional future funding in connection with that award. Renewal of an award to increase funding or extend the period of performance is at the total discretion of DOC.

(E) Delinquent Federal Debts—No award of Federal funds shall be made to an applicant who has an outstanding delinquent Federal debt until either:

(1) The delinquent account is paid in full.

(2) A negotiated repayment schedule is established and at least one payment is received, or

(3) Other arrangements satisfactory to DOC are made.

(F) Name Check Review—All non-profit and for-profit applicants are subject to a name check review process. Name checks are intended to reveal if any key individuals associated with the applicant have been convicted of or are presently facing criminal charges such as fraud, theft, perjury, or other matters which significantly reflect on the applicant's management honesty or financial integrity.

(G) False Statements—A false statement on an application is grounds for denial or termination of funds and grounds for possible punishment by a fine or imprisonment as provided in 18 U.S.C. 1001.

(H) Intergovernmental Review—Applications for support from the National Sea Grant College Program are not subject to Executive Order 12372, “Intergovernmental Review of Federal Programs.”

(I) Purchase of American-Made Equipment and Products—Applicants are hereby notified that they will be encouraged to the greatest extent practicable, to purchase American-made equipment and products with funding provided under this program.

Classification

Prior notice and an opportunity for public comments are not required by the Administrative Procedure Act or any other law for this notice concerning grants, benefits, and contracts. Therefore, a regulatory flexibility analysis is not required for purposes of the Regulatory Flexibility Act.

This action has been determined to be not significant for purposes of E.O. 12866.

This notice contains collection-of-information requirements subject to the Paperwork Reduction Act. The Sea Grant Project Summary Form and the Sea Grant Budget Form have been approved under Office of Management and Budget (OMB) Control Number 0648-0362, with estimated times per response of 20 and 15 minutes respectively. The use of Standard Forms 424, 424B, and SF-LLL have been approved by OMB under the respective control numbers 0348-0043, 0348-0040, and 0348-0046. The response time estimates above include the time for reviewing instructions, searching existing data sources, gathering and maintaining the data needed, and completing and reviewing the collection of information. Send comments on these estimates or any other aspect of these collections to National Sea Grant Office/NOAA, 1315 East-West Highway, Silver Spring, MD 20910 and to the Office of Information and Regulatory Affairs, Office of Management and Budget, Washington, DC 20503 (Attention: NOAA Desk Officer). Notwithstanding any other provision of the law, no person is required to respond to, nor shall any person be subject to a penalty for failure to comply with, a collection of information subject to the requirements of the Paperwork Reduction Act, unless that collection of information displays a currently valid OMB Control Number.

Dated: February 28, 2001.
Louisa Koch,
Deputy Assistant Administrator, Office of Oceanic and Atmospheric Research, National Oceanic and Atmospheric Administration.

[FR Doc. 01-5265 Filed 3-2-01; 8:45 am]

BILLING CODE 3510-KA-M